DEPARTMENT OF COMMERCE

National Oceanic and Atmospheric Administration

Availability for Public Comment on the Draft Fifth National Climate Assessment (NCA5) United States Global Change Research Program (USGCRP)

AGENCY: Office of Oceanic and Atmospheric Research (OAR), National Oceanic and Atmospheric Administration (NOAA), Department of Commerce (DOC).

ACTION: Notice of availability for public comment.

SUMMARY: NOAA, on behalf of USGCRP, is publishing this notice on behalf of the United States Global Change Research Program (USGCRP) to announce the availability of a draft Fifth National Climate Assessment (NCA5) report for public comment. Following revision and further review (including by the National Academies of Sciences, Engineering, and Medicine), a revised draft will undergo final Federal interagency clearance.

DATES: Review comments should be submitted via the web address specified below https://review.globalchange.gov/ and must be received by 12 weeks after publication of this notice.

ADDRESSES: The draft NCA5 can be accessed in the USGCRP Review and Comment System at https://review.globalchange.gov/, and also through the USGCRP Open Notices Page (https://www.globalchange.gov/notices). To review the draft report and submit comments, reviewers will need to register in the Review and Comment system. Comments may be submitted only via this online mechanism. Registration details can be found on the https://review.globalchange.gov/ home page, and review instructions are accessible once a registered user has logged into the system.

All comments received through this process will be considered by the relevant chapter authors without knowledge of the commenters' identities. When the final assessment is issued, the comments and the commenters' names, along with the authors' responses, will become part of the public record and made available on https://www.globalchange.gov. No information submitted by a commenter as part of the registration process (such as an email address) will be disclosed publicly.

FOR FURTHER INFORMATION CONTACT: Chris Avery, (202) 419-3474, cavery@usgcrp.gov, U.S. Global Change Research Program.

SUPPLEMENTARY INFORMATION: Background information and additional details on NCA5 can be found at https://www.globalchange.gov/nca5.

The U.S. Global Change Research Program (USGCRP) is mandated under the Global Change Research Act (GCRA) of 1990 to conduct a quadrennial National Climate Assessment (NCA) to evaluate scientific findings and uncertainties related to global change, analyze the effects of global change, and analyze the current and projected trends in global change, both human-induced and natural. Response to this notice is voluntary. Responses to this notice may be used by the government for program planning on a non-attribution basis. NOAA therefore requests that no business proprietary information or copyrighted information be submitted in response to this notice. Please note that the U.S. Government will not pay for response preparation, or for the use of any information contained in the response

NCA5 fulfills this mandate by synthesizing and assessing the science and impacts of climate change across 2 physical science chapters, 17 national topic chapters, 10 regional chapters, and 2 response chapters. Additionally, multiple cross-cutting sections will focus on emergent topics of interest across many sectors and regions. Appendices articulate some additional details on process, rules, and tools used to develop NCA5. NCA5 assesses the science of impacts and options that reduce present and future risk in a policy-relevant but not policy-prescriptive manner. NCA5 is a product of the USGCRP and is overseen by a Federal Steering Committee. Chapter leads were identified via an open call for nominations (https://www.federalregister.gov/documents/2020/10/15/2020-22729/request-for-public-nominations-for-authors-and-scientifictechnical-inputs-and-notice-of-planned). The draft assessment was written by teams of Federal and non-Federal authors selected for their demonstrated subject matter expertise and publications relevant to the chapter topics outlined in the prospectus (https://www.federalregister.gov/documents/2020/07/10/2020-14904/request-for-comment-on-the-draft-prospectus-of-the-fifth-national-climate-assessment), and was informed by an array of technical inputs, many gathered through an open call (https://www.federalregister.gov/documents/2020/10/15/2020-22729/request-for-public-nominations-for-authors-and-scientifictechnical-inputs-and-notice-of-planned). This report adheres to the Global Change Research Act (GCRA), Information Quality Act and The Foundations for Evidence-based Policymaking Act of 2018 requirements (https://www.noaa.gov/organization/information-technology/policy-oversight/information-quality) for quality, transparency, and accessibility as appropriate for a Highly Influential Scientific Assessment.

David Holst,
Chief Financial Officer and Administrative Officer, Office of Oceanic and Atmospheric Research, National Oceanic and Atmospheric Administration.

[FR Doc. 2022-24611 Filed 11-7-22; 4:15 pm]

BILLING CODE 3510-KD-P